DEPARTMENT OF LABOR

Employment and Training Administration

Comment Request for Information Collection for the Workforce Investment Act (WIA) Management Information and Reporting System (OMB Control No. 1205-0420), Extension With Minor Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the revisions to the WIA Management Information and Reporting System data collection supporting statement to update the burden estimate to account for annual changes in hourly rates for respondents and remove any outdated language referencing updates made to the WIA reporting system prior to its 2013 renewal. No other revisions were made to the package.

On July 22, 2015, the Department issued an information collection request (ICR) for implementing WIOA performance requirements in accordance with section 116. Section 136 of WIA will remain in place until the performance requirements under WIOA have been fully implemented. Because we are using WIA performance measures, we are referring to the reports collected under this collection as “WIA Reports.” Generally, WIOA took effect on July 1, 2015 (See WIOA sec. 506(a.)). Sec. 116 of WIOA, which outlines the performance accountability requirements, including the indicators of performance, does not take effect until July 1, 2016 (See WIOA sec. 506(b)(1)). Under the Department's transition authority, in order to provide for an orderly transition from WIA to WIOA, we will require the states to use the WIA performance metrics in WIA sec. 136 to report on WIOA participants for one program year. This means that WIOA participants who became WIOA participants after July 1, 2015, are being measured according to the WIA section 136 performance measures. Once the Department has fully implemented WIOA's performance system, and all reporting requirements under WIA are met, the WIA reporting system will be discontinued. ETA seeks extension and approval of WIA reporting requirements during this transition period. Provisions will cover both individuals who were participants under WIA and new participants who enter the workforce system prior to full implementation of WIOA. For convenience we have included references to both the WIA statute and their corresponding updated sections within WIOA.

DATES: Written comments must be submitted to the office listed in the addresses section below on or before April 11, 2016.

ADDRESSES: Submit written comments to Karen Staha, Office of Policy Development and Research, Room N-5641, Employment and Training Administration, U.S. Department of Labor, 200 Constitution Avenue NW., Washington, DC 20210. Telephone number: 202-693-2917 (this is not a toll-free number). Fax: 202-693-2766. Email: ETAPerforms@dol.gov. A copy of the proposed information collection request (ICR) can be obtained by contacting the office listed above.

FOR FURTHER INFORMATION CONTACT: Luke Murren at 202-693-3733 or murren.luke@dol.gov.

SUPPLEMENTARY INFORMATION:

I. Background

The accuracy, reliability, and comparability of program reports submitted by States using Federal funds are fundamental elements of good public administration, and are necessary tools for maintaining and demonstrating system integrity. The use of a standard set of data elements, definitions, and specifications at all levels of the workforce system helps improve the quality of performance information that is received by the Department of Labor. The common performance measures are an integral part of ETA's performance accountability system, and ETA will continue to collect from grantees the data on program activities, participants, and outcomes that are necessary for program management and to convey full and accurate information on the performance of workforce programs to policymakers and stakeholders.

This WIA reporting structure includes quarterly (ETA 9090) and annual (ETA 9091) reports as well as a standardized individual record file for program participants, called the Workforce Investment Act Standardized Record Data (WIASRD). The WIASRD is submitted by the States to ETA and includes participant level information on customer demographics, type of services received, and statutorily defined measures of outcomes. This reporting structure will remain in place until the Department of Labor transitions to performance reporting under section 116 of the Workforce Innovation and Opportunity Act (WIOA).

High quality program performance requires the submission of timely, accurate, and high quality data on the characteristics, services received, and outcomes of program participants. Together, the 9091, 9090, and WIASRD comprise the data collected on WIA participants. As such, these data are necessary for tracking and reporting to stakeholders, information on the usage, services provided, and performance of these programs. These data are used to monitor the core purpose of the programs—mainly, tracking how many people found jobs; did people stay employed; and what were their earnings.

This information collection has been classified as a revision with only minor edits made to the supporting statement to account for adjustment in burden estimates based on annual changes in hourly rates for respondents and to remove all outdated language referencing updates made to the WIA reporting system prior to its 2013 renewal. The remainder of the collection remains unchanged.

Information is collected under the authority of WIA sections 136 ¹ and WIA/WIOA sections 169 (172 under WIA), 185, and 189. Section 136 specifically addresses performance and accountability for the WIA Adult, Dislocated Worker (DW), and Youth programs. Sections 169, 185, and 189 provide broad authority to the Secretary of Labor to address performance and accountability issues for all programs authorized under title I.

¹ Although WIOA took effect July 1, 2015, under section 506(b)(1), reporting under section 136 of WIA continues until July 1, 2016. Under the Department's transition authority, in order to provide for an orderly transition from WIA to WIOA, we will require the states to use the WIA performance metrics in WIA sec. 136 to report on WIOA participants. This means that WIOA participants who became WIOA participants after July 1, 2015 are being measured according to the WIA section 136 performance measures. Because we are using WIA performance measures, we are referring to the reports collected under this collection as “WIA Reports.” Once the Department has fully implemented WIOA's performance system and all WIA reporting requirements have been completed, these WIA Reports will be discontinued.

WIA section 136 establishes a comprehensive performance accountability system, comprised of the activities described in this section, to assess the effectiveness of States and local areas in achieving continuous improvement of workforce investment activities funded under this subtitle, in order to optimize the return on investment of Federal funds in statewide and local workforce investment activities (WIA section 136(a)).

Further, WIA section 136(d) outlines the minimum requirements for the WIA annual reports that States must submit to DOL. The annual reports must reflect:

• The progress of the State in achieving State performance measures, including information on the levels of performance achieved by the State with respect to the core indicators of performance and the customer satisfaction indicator;

• The progress of local areas in the State in achieving local performance measures, including information on the levels of performance achieved by the areas with respect to the core indicators of performance and the customer satisfaction indicator;

• Information on the entry by participants who have completed training services provided under WIA section 134(d)(4) (superseded by WIOA section134(c)(3)) into unsubsidized employment related to the training received;

• Data on the wages at entry into employment for participants in workforce investment activities who entered unsubsidized employment, including the rate of wage replacement for such participants who are dislocated workers;

• Information on the retention and earnings received in unsubsidized employment 12 months after entry into employment;

• A description of performance with respect to the indicators of performance specified in WIA section 136(b)(2)(A) (core indicators of performance) of participants in workforce investment activities who received the training services compared with the performance of participants in workforce investment activities who received only services other than the training services (excluding participants who received only self-service and informational activities); and

• A summary of performance with respect to the indicators of performance specified in WIA section 136(b)(2)(A) (core indicators of performance) of recipients of public assistance, out-of-school youth, veterans, individuals with disabilities, displaced homemakers, and older individuals.

WIOA section 169 (WIA section 172) directs the Secretary to provide for the continuing evaluation of programs and activities authorized under WIA/WIOA title I, including demonstration grants. WIOA section 169(a) (WIA section 172(a)) specifies that the evaluations must address:

• General effectiveness of such programs and activities in relation to their cost, including the extent to which the programs and activities improve the employment competencies of participants in comparison to comparably-situated individuals who did not participate in such programs and activities and, to the extent feasible, increase the level of total employment over the level that would have existed in the absence of such programs and activities;

• Effectiveness of the performance measures relating to such programs and activities;

• Effectiveness of the structure and mechanisms for delivery of services through such programs and activities;

• Impact of the programs and activities on the community and participants involved;

• Impact of such programs and activities on related programs and activities;

• Extent to which such programs and activities meet the needs of various demographic groups; and

• Such other factors as may be appropriate.

WIA/WIOA section 185 broadly addresses reports, recordkeeping, and investigations across programs authorized under title I of the Act. The provisions of section 185:

• Require the Secretary to ensure that all elements of the information required for reports be defined and reported uniformly (WIA/WIOA section 185(d)(2));

• Direct each State, each local board, and each recipient (other than a sub-recipient, sub-grantee, or contractor of a recipient) to prescribe and maintain comparable management information systems, in accordance with the guidelines that shall be prescribed by the Secretary designed to facilitate the uniform compilation, cross tabulation, and analysis of programmatic, participant, and financial data, on statewide, local area, and other appropriate bases necessary for reporting, monitoring, and evaluating purposes, including data necessary to comply with WIA/WIOA section 188 (WIA/WIOA section 185(c)(2));

• Require that recipients of funds under title I of WIA/WIOA shall maintain such records and submit such reports in such form and containing such information as the Secretary may require regarding the performance of programs and activities carried out under title I of WIA/WIOA (section 185(a)(2));

• Compel States to submit to the Secretary on a quarterly basis, a summary of the reports submitted to the Governor under WIA/WIOA sections 185(e)(1) and 185(e)(2);

• Specify that the reports shall include information about programs and activities carried out under title I of WIA/WIOA pertaining to:

—Relevant demographic characteristics (including race, ethnicity, sex, and age) and other related information regarding participants;

—Programs and activities in which participants are enrolled, and the length of time that participants are engaged in such programs and activities;

—Outcomes of the programs and activities for participants, including the occupations of participants and placement for participants in nontraditional employment;

—Specified costs of the programs and activities; and

—Information necessary to prepare reports to comply with WIA/WIOA section 188 and 29 CFR part 38 (WIA/WIOA sections 185(d)(1) and (a-e)).

WIA/WIOA section 189 requires the Secretary to prepare and submit to Congress an annual report regarding the programs and activities carried out under title I of WIA/WIOA. The report must include:

• A summary of the achievements, failures, and problems of the programs and activities in meeting the objectives of WIA/WIOA title I;

• A summary of major findings from research, evaluations, pilot projects, and experiments conducted under WIA/WIOA title I in the fiscal year prior to the submission of the report;

• Recommendations for modifications in the programs and activities based on analysis of such findings; and

• Such other recommendations for legislative or administrative action as the Secretary determines to be appropriate.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: extension with minor revisions.

Title: WIA Management Information and Reporting System.

OMB Number: 1205-0420.

Affected Public: State governments.

Form(s): ETA-9090 and ETA-9091.

Total Annual Respondents: 53.

Annual Frequency: Quarterly.

Total Annual Responses: 424.

Average Time per Response: 36 minutes.

Estimated Total Annual Burden Hours: 619,430.

Total Annual Burden Cost for Respondents: $0.

Comments submitted in response to this comment request will be summarized and/or included in the request for OMB approval of the ICR; they will also become a matter of public record.

Portia Wu,
Assistant Secretary for Employment and Training, Labor.

[FR Doc. 2016-02420 Filed 2-8-16; 8:45 am]

BILLING CODE 4510-FN-P